NUCLEAR REGULATORY COMMISSION

[Docket No. 50-391; ASLBP No. 09-893-01-OL-BD01]

Establishment of Atomic Safety and Licensing Board; Tennessee Valley Authority

Pursuant to delegation by the Commission dated December 29, 1972, published in the Federal Register, 37 FR 28,710 (1972), and the Commission's regulations, see 10 CFR 2.104, 2.300, 2.313, 2.318, and 2.321, notice is hereby given that an Atomic Safety and Licensing Board (Board) is being established to preside over the following proceeding: Tennessee Valley Authority (Watts Bar Nuclear Plant, Unit 2)

This proceeding concerns a request for hearing from petitioners Southern Alliance for Clean Energy, Tennessee Environmental Council, We the People, the Sierra Club, and the Blue Ridge Environmental Defense League. The hearing request was submitted in response to a May 1, 2009 Notice of Receipt of Update to Application for Facility Operating License and Notice of Opportunity for Hearing for the Watts Bar Nuclear Plant, Unit 2 (74 FR 20350). Petitioners challenge the updated application filed by Tennessee Valley Authority for a facility operating license for the Watts Bar Nuclear Plant, Unit 2, to be located in Rhea County, Tennessee.

The Board is comprised of the following administrative judges:

Lawrence G. McDade, Chair, Atomic Safety and Licensing Board Panel, U.S. Nuclear Regulatory Commission, Washington, DC 20555-0001.

Paul B. Abramson, Atomic Safety and Licensing Board Panel, U.S. Nuclear Regulatory Commission, Washington, DC 20555-0001.

Gary S. Arnold, Atomic Safety and Licensing Board Panel, U.S. Nuclear Regulatory Commission, Washington, DC 20555-0001.

All correspondence, documents, and other materials shall be filed in accordance with the NRC E-Filing rule, which the NRC promulgated in August 2007 (72 FR 49139).

Issued at Rockville, Maryland, this 28th day of July 2009.
E. Roy Hawkens,
Chief Administrative Judge, Atomic Safety and Licensing Board Panel.

[FR Doc. E9-18437 Filed 7-31-09; 8:45 am]

BILLING CODE 7590-01-P